DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Health Education Assistance Loan (HEAL)

Program: Regulatory Requirements—00915-0108—Extension—This clearance request is for extension of approval for the notification, reporting and recordkeeping requirements in the HEAL program to insure that the lenders, holders and schools participating in the HEAL program follow sound management procedures in the administration of federally-insured student loans. While the regulatory requirements are approved under this OMB number, much of the burden associated with the regulations is cleared under the OMB numbers for the HEAL forms used to report required information (listed below). The table listed at the end of this notice contains the estimate of burden for the remaining regulations.

Annual Response Burden for the following regulations is cleared by OMB when the reporting forms are cleared:

OMB Approval No. 0915-0034, Lender's Application, Borrower Status, Loan Transfer, Contract for Loan Insurance:

Reporting

42 CFR 60.31(a), Lender annual application

42 CFR 60.38(a), Loan Reassignment

Notification

42 CFR 60.12(c)(1), Borrower deferment

OMB Approval No. 0915-0036, Lender's Application for Insurance Claim:

Reporting

42 CFR 60.35(a)(2), Lender skip-tracing activities

42 CFR 60.40(a), Lender documentation to litigate a default

42 CFR 60.40(c)(i), (ii), and (iii), Lender default claim

42 CFR 60.40(c)(2), Lender death claim

42 CFR 60.40(c)(3), Lender disability claim

42 CFR 60.40(c)(4), Lender report of student bankruptcy

OMB Approval No. 0915-0043, Repayment Schedule, Call Report

Notification

42 CFR 60.11(e), Establishment of repayment terms-borrower

42 CFR 60.11(f)(5), Borrower notice of supplemental repayment agreement

42 CFR 60.34(b)(1), Establishment of repayment terms-lender

OMB Approval No. 0915-0204, Physicians Certification of Permanent and Total Disability

Reporting

42 CFR 60.39(b)(2), Holder request to Secretary to determine borrower disability

OMB Approval No. 0915-227, Refinancing Application/Promissory Note

42 CFR 60.33(e), Executed application and note to borrower

The estimate of burden for the regulatory requirements of this clearance are as follows:

Table of Regulatory Sections and Respondent Burden
Type of burden | Transactions per year | Estimated time per transaction | Annual re-sponse burden (hours)
REPORTING
Subpart D: Lender—22 Participating Lenders
60.40(c)(1)(iv) Bankruptcy Report to the Secretary | 139 | 12 min | 28
60.42(d) Audit | 22 | 240 min. (4 hrs.) | 88
60.42(e) Evidence of Fraud | 0 | 120 min. (2 hrs.) | 0
60.43(b) Evidence of Cause for Administrative Hearing | 0 | 180 min. (3 hrs.) | 0
Subtotal | 161 |  | 116
Subpart E: School—200 Participating Schools
60.56(c) Biennial Audit | 0 | 240 min. (4 hrs.) | 0
60.60(b) Evidence of Cause for Administrative Hearing | 0 | 180 min. (3 hrs.) | 0
60.61(d) Bankruptcy Documentation | 139 | 10 min | 23
Subtotal | 139 |  | 23
Total Reporting | 300 |  | 139
NOTIFICATION
Subpart B: Borrower—20,639 Borrowers
60.8(a)(5) Sale or Transfer of Loan | Burden included in 60.38a
60.8(b)(3) Status Change | 20,500 | 10 min | 3,417
60.61(d)* Bankruptcy | 139 | 10 min | 23
Subtotal | 20,639 |  | 3,440
Subpart C: Loan/Lender—9 Participating Lenders
60.18 Loan Consolidation | 3,000 | 40 min | 2,000
60.21(b)(2) Refund Check Transfer | 0 | 30 min | 0
60.21(b)(2) Refund Check Notification | 0 | 15 min | 0
Subpart D: Lender—22 Participating Lenders
60.33(g) Denial of Loan | 0 | 14 min | 0
60.33(h) Borrower Indebtedness | 3,000 | 1 min | 50
60.34(c) Biannual Debt Status | 202,126 | 10 min | 33,688
60.35(a)(1) Delinquent Payment Notice to Borrower | 11,713 | 30 min | 5,857
60.35(c)(2) Delinquent Notice to Credit Reporting Agency | 11,713 | 15 min | 2,928
60.35(e) Demand Letter | 2,047 | 10 min | 341
60.37(a) Right to Forbearance | 4,480 | 5 min | 373
60.37(c)(3) Reminder of Obligation to Pay | 2,240 | 10 min | 373
60.38(a) Notification to Borrower of Loan Reassignment | 7,500 | 5 min | 625
60.40(c)(1)(iv) and (c)(4) Default Notification to Courts | 139 | 25 min | 58
Subtotal | 247,958 |  | 46,293
Subpart E: School—200 Participating Schools
60.53 Change in Student Status Burden included with | Burden included with 60.61(a)(7)
60.54 Notice of Refund Payment | 0 | 25 min | 0
60.57 Borrower Identifying Information | 1,439 | 8 min | 192
60.61(a)(1) Entrance Interview | 0 | 35 min | 0
60.61(a)(2) Exit Interview | 1,439 | 50 min | 1,199
60.61(a)(2) Student Departure Notification to Lender | 200 | 35 min | 117
60.61(a)(3) Unresolved Discrepancies to Lender | 0 | 12 min | 0
60.61(a)(7) Change in Student Address to Lender | 2,878 | 10 min | 480
Subtotal | 5,956 |  | 1,988
Total Notification | 274,553 |  | 51,721
RECORDKEEPING
Subpart B: Borrower
60.7(a)(2) Student Signed Stmt.—Gov. Debt Collection Procedures | Burden included in 60.34(b)(2) and 60.61(a)(1)&(2)
60.7(c)(2) Non-Student Signed Stmt.—Gov. Debt Collection | 0.00 |  | 0.00
Subpart D: Lender—22 Participating Lenders
60.31(c) Procedures for Servicing & Collecting Loans | 22 | 240 min. (4 hrs) | 88
60.33(e) Promissory Note | Burden included in 60.42(a)(2)
60.34(b)(2) Terms of Repayment Schedules | 10,000 | 5 min | 833
60.35(a)(1) Attempts to Collect Delinquent Payment | 10,000 | 5 min | 833
60.35(a)(2) Documentation of Skip-tracing | 2,500 | 10 min | 417
60.37(a)(1) Documentation of Borrower's Inability to Pay | 2,500 | 15 min | 625
60.37(c) Renewals of Forbearance | 1,200 | 10 min | 200
60.37(c)(1) Basis for Belief of Borrower Intent to Default | 300 | 10 min. | 50
60.40(a) Documentation of Insurance Claims | 584 | 70 min. | 681
60.42(a)(1) Loan Records | Burden included in 60.42(a)(2)
60.42(a)(2) Borrower's Payment History | 101,063 | 15 min. | 25,266
Subtotal | 128,169 |  | 28,993
Subpart E: School—200 Participating Schools
60.51(f)(1) Documentation of Needs Analysis Adjustment | Burden included in 60.61(a)(5)
60.51(f)(2) Documentation of Standard Student Budget Adjustments | Burden included in 60.61(a)(5)
60.56(a) Required Retention of HEAL Borrower Records | Burden included in 60.61(a)(5)
60.56(b) Five Year Retention of Student Records |
60.57 Retention of Reports to the Secretary | 200 | 45 min. | 150
60.61(a)(1) Entrance Interview
60.61(a)(2) Exit Interview | 1,439 | 5 min. | 120
60.61(a)(4) HEAL Check Receipt | 0 | 300 min. | 0
60.61(a)(5) Complete Records of HEAL Borrowers | 50,000 | 15 min. | 12,500
60.61(a)(6) Criteria for Student Budgets | 50,000 | 2 min. | 1,667
Subtotal | 101,639 |  | 14,437
Total Recordkeeping | 229,808 |  | 43,430
Total Annual Burden | 504,661 |  | 95,290

Send comments to Susan G. Queen, Ph.D., HRSA Reports Clearance Officer, Room 14-33, Parklawn Building, 5600 Fishers Lane, Rockville, MD 20857. Written comments should be received within 60 days of this notice.

Dated: July 25, 2000.
Jane Harrison,
Director, Division of Policy Review and Coordination.

[FR Doc. 00-19305 Filed 8-3-00; 8:45 am]

BILLING CODE 4160-15-P